DEPARTMENT OF COMMERCE

National Oceanic and Atmospheric Administration

[I.D. 030205A]

Endangered Species; File No. 1507

AGENCY: National Marine Fisheries Service (NMFS), National Oceanic and Atmospheric Administration (NOAA), Commerce.

ACTION: Issuance of permit.

SUMMARY: Notice is hereby given that Llewellyn Ehrhart, University of Central Florida, 4000 Central Florida Blvd., Orlando, Florida 32816-2368 has been issued a permit to take green (Chelonia mydas), loggerhead (Caretta caretta), hawksbill (Eretmochelys imbricata), Kemp's ridley (Lepidochelys kempii), and leatherback (Dermochelys coriacea) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 9721 Executive Center Drive North, St. Petersburg, FL 33702-2432; phone (727)570-5301; fax (727)570-5320.

FOR FURTHER INFORMATION CONTACT: Patrick Opay or Carrie Hubard, (301)713-2289.

SUPPLEMENTARY INFORMATION: On December 2, 2004, notice was published in the Federal Register (69 FR 70125) that a request for a scientific research permit to take loggerhead, Kemp's ridley, green, leatherback, and hawksbill sea turtles had been submitted by the above-named individual. The requested permit has been issued under the authority of the Endangered Species Act of 1973, as amended (ESA; 16 U.S.C. 1531 et seq.) and the regulations governing the taking, importing, and exporting of endangered and threatened species (50 CFR parts 222-226).

Researchers will annually capture, flipper tag, PIT tag, measure, mark, weigh, blood sample, lavage, photograph, attach a satellite transmitter to, attach a tethered instrument to, release, and track loggerhead, green, hawksbill and Kemp's ridley sea turtles. The purpose of the research is to conduct in-water studies of marine turtle populations in the Indian River Lagoon (Project 1); to conduct studies of marine turtle populations residing on the Sabellariid Worm Reef of Indian River County, Florida (Project 2); to study sea turtle distribution and movement through the use of satellite telemetry (Project 3); to assess the juvenile green turtle population at the Trident Turning Basin, Cape Canaveral Air Force Station (Project 4); and to study juvenile green turtle and loggerhead habitat utilization in the central region of the Indian River Lagoon System, Florida (Project 5). The permit is issued for 5 years.

Issuance of this permit, as required by the ESA, was based on a finding that such permit (1) was applied for in good faith, (2) will not operate to the disadvantage of any endangered or threatened species, and (3) is consistent with the purposes and policies set forth in section 2 of the ESA.

Dated: March 29, 2005.
Stephen L. Leathery,
Chief, Permits, Conservation and Education Division, Office of Protected Resources, National Marine Fisheries Service.

[FR Doc. 05-6609 Filed 4-1-05; 8:45 am]

BILLING CODE 3510-22-S